RAILROAD RETIREMENT BOARD

Agency Information Collection Activities: Proposed collections; Comment Request

Summary: In accordance with the requirement of Section 3506(c)(2)(A) of the Paperwork Reduction Act of 1995 which provides opportunity for public comment on new or revised data collections, the Railroad Retirement Board (RRB) publishes periodic summaries of proposed data collections. The information collections numbered below are pending at RRB and will be submitted to the Office of Management and Budget (OMB) 60 days from the publication date of this notice.

Comments are Invited on: (a) Whether the proposed information collection(s) is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and Purpose of Information Collection; Railroad Service and Compensation Reports/System Access Application; OMB 3220-0008 Under Section 9 of the Railroad Retirement Act (RRA) and Section 6 of the Railroad Unemployment Insurance Act (RUIA) the Railroad Retirement Board (RRB) maintains for each railroad employee, a record of compensation paid to that employee by all railroad employers for whom the employee worked after 1936. This record, which is used by the RRB to determine eligibility for, and amount of, benefits due under the laws it administers, is conclusive as to the amount of compensation paid to an employee during such period(s) covered by the report(s) of the compensation by the employee's railroad employer(s), except in cases when an employee files a protest pertaining to his or her reported compensation within the statue of limitations cited in Section 9 of the RRA and Section 6 of the RUIA.

To enable the RRB to establish and maintain the record of compensation, employers are required to file with the RRB, in such manner and form and at such times as the RRB prescribes, reports of compensation of employees. Railroad Employers' Reports and Responsibilities are prescribed in 20 CFR 209. The RRB currently utilizes Form BA-3a, Annual Report of Compensation and Form BA-4, Report of Creditable Compensation Adjustments, to secure required information from railroad employers. Form BA-3a provides the RRB with information regarding annual creditable service and compensation for each individual who worked for a railroad employer covered by the RRA and RUIA in a given year. Form BA-4 provides for the adjustment of any previously submitted reports and also the opportunity to provide any service and compensation that had been previously omitted. Requirements specific to Forms BA-3a and BA-4 are prescribed in 20 CFR 209.8 and 209.9.

Employers currently have the option of submitting the reports on the aforementioned forms, electronically via the Internet utilizing the RRB's Employer Reporting System (ERS) (for Form BA-4), or in like format on magnetic tape cartridges, CD-ROM's and PC diskettes.

The RRB proposes major changes to the information collection. They are intended to streamline the employer reporting process, ensuring more accurate and timely reporting, while eliminating or reducing the employer reporting burden associated with several other RRB information collections.

Form BA-3a will be significantly revised and renamed Form BA-3, Annual Report of Compensation. Revisions to proposed Form BA-3 include the expansion of existing data fields to allow for: the reporting of amounts for Tier I and Tier II compensation greater than $99,999.99 (the annual creditable maximum for Tier I will exceed that amount within the next two years), RUIA daily pay amounts of more than $99.99, 4-digit year fields and an employee's complete first and last name. New Items requesting information regarding sick pay and miscellaneous compensation, the employee's current address, maximum benefit RUIA compensation, and employment relationship status for months not worked will be added.

Data fields for proposed Form BA-4 will be revised to allow for: the reporting of Tier I and Tier II compensation greater than $99,999.99 (the annual creditable maximum for Tier I will exceed that amount within the next two years), RUIA daily pay rate amounts of more than $99.99, 4-digit year fields and an employee's complete first and last name. New Items providing for the reporting of adjustments to the originally reported Tier I and Tier II amounts, sick pay, miscellaneous compensation, RUIA maximum benefit amounts, and an employee's daily pay rate will be added.

The RRB proposes the implementation of two additional electronic equivalent methods of submission for Form BA-3 and Form BA-4 information: File Transfer Protocol (FTP) and secure E-mail.

The information collection also includes RRB Form BA-12, Application for Employer Reporting Internet Access. Form BA-12 is completed by railroad employers to obtain system access to the RRB's Employer Reporting System (ERS). Once access is obtained, authorized employees may submit reporting forms to the RRB via the Internet. The form determines what degree of access (view/only, data entry/modification or approval/submission) is appropriate for that employee. It is also used to terminate an employee's access to ERS. No changes are being proposed to Form BA-12.

Lastly, the RRB proposes the addition of new Form G-440, Report Specifications Sheet, to the collection. Form G-440 will act as a certification document for various RRB employer reporting forms (Forms BA-3, BA-4, Form BA-6a, BA-6, Address Report (OMB 3220-0005), BA-9, Report of Separation Allowance or Severance Pay (OMB 3220-0173) and BA-11, Report of Gross Earnings (OMB 3220-0132)). It will also be used to record the type of medium the report was submitted on, and as a summary recapitulation sheet for reports filed on paper.

The estimated completion times for Form(s) BA-3, BA-4 and G-440 vary, depending on circumstances and the method of submission. The completion time for Form BA-3 is estimated at 46 hours and 15 minutes per response for electronic submissions to 116 hours and 51 minutes for manual responses. The completion time for Form BA-4 is estimated at 20 minutes for an ERS Internet-based response, 60 minutes for an electronic submission (magnetic tape cartridge, CD-ROM, diskette, secure E-mail, FTP) and 75 minutes for a manual response. The completion time for form BA-12 is estimated at 10 minutes when used to terminate system access and 20 minutes when used to obtain system access. The completion time for proposed Form G-440 is estimated at 15 minutes when submitted with a paper form and/or used to file a “zero” or “no employees” certification, 30 minutes when used as an electronic medium reporting/certification form, and 1 hour and 15 minutes when used as a certification and recapitulation form. Submission of Form BA-3, BA-4, and G-440 is mandatory. Completion of Form BA-12 is voluntary. It is completed only if an employer wants to submit reports via the Internet. One response is requested of each respondent for all of the forms in the collection. Depending on circumstances and method of submission chosen, multiple responses will be received from a respondent for Form BA-4 and G-440. The annual respondent burden for the information collection is estimated at 7,348 responses and 43,756 hours.

2. Title and Purpose of Information Collection; Employer Reporting, 3220-0005.

Under Section 9 of the Railroad Retirement Act (RRA), and Section 6 of the Railroad Unemployment Insurance Act (RUIA), railroad employers are required to submit reports of employee service and compensation to the RRB as needed for administering the RRA and RUIA. To pay benefits due on a deceased employee's earnings records or determine entitlement to, and amount of annuity applied for, it is necessary at times to obtain from railroad employers current (lag) service and compensation not yet reported to the RRB through the annual reporting process. The reporting requirements are specified in 20 CFR 209.6 and 209.7.

The RRB currently utilizes Form G-88a.1, Notice of Retirement and Verification of Date Last Worked, Form G-88a.2, Notice of Retirement and Request for Service Needed for Eligibility, and Form AA-12, Notice of Death and Compensation, to obtain the required lag service and related information from railroad employers. Form G-88a.1 is a computer-generated listing sent by the RRB to railroad employers and used for the specific purpose of verifying information previously provided to the RRB regarding the date last worked by an employee. If the information is correct, the employer need not reply. If the information is incorrect, the employer is asked to provide corrected information. Form G-88a.2 is used by the RRB to secure lag service and compensation information when it is needed to determine benefit eligibility. Form AA-12 obtains a report of lag service and compensation from the last railroad employer of a deceased employee. This report covers the lag period between the date of the latest record of employment processed by the RRB and the date an employee last worked, the date of death or the date the employee may have been entitled to benefits under the Social Security Act. The information is used by the RRB to determine benefits due on the deceased employee's earnings record. The RRB proposes no changes to Form AA-12, Form G-88a.1 and Form G-88a.2.

In addition, 20 CFR 209.12(b) requires all railroad employers to furnish the RRB with the home addresses of all employees hired within the last year (new-hires). Form BA-6a, Form BA-6 Address Report, is used by the RRB to obtain home address information of employees from railroad employers that do not have the home address information computerized and who submit the information in a paper format. The form also serves as an instruction sheet to railroad employers who can also submit the information electronically by magnetic tape cartridge, CD-ROM, PC diskette, secure E-mail, or via the Internet utilizing the RRB's Employer Reporting System (ERS). The RRB proposes changes to Form BA-6a. An existing data field will be revised to allow for an employee's complete first and last name. A new item will be added to indicate the date an employee reported the address to his employer.

Completion of the forms is mandatory. One response is requested of each respondent. The completion time for Form G-88a.1 is estimated at 5 to 20 minutes. Form G-88a.2 is estimated at 5 minutes per response. The completion time for Form AA-12 is estimated at 5 minutes per response. The completion time for Form BA-6a varies, depending on circumstances and the method of submission. An Internet-based BA-6a response utilizing the RRB's ERS system is estimated at 12 to 17 minutes. BA-6a responses submitted via magnetic tape, diskette, CD-ROM, secure E-mail and FTP are estimated at 15 minutes. BA-6a's responses submitted on manual form BA-6a are estimated at 32 minutes. The annual respondent burden for the information collection is estimated at 1,928 responses and 434 hours.

3. Title and Purpose of Information Collection; Railroad Separation Allowance or Severance Pay Report; OMB 3220-0173.

Section 6 of the Railroad Retirement Act provides for a lump-sum payment to an employee or the employee's survivors equal to the Tier II taxes paid by the employee on a separation allowance or severance payment for which the employee did not receive credits toward retirement. The lump-sum is not payable until retirement benefits begin to accrue or the employee dies. Also, Section 4(a-1)(iii) of the Railroad Unemployment Insurance Act provides that a railroad employee who is paid a separation allowance is disqualified for unemployment and sickness benefits for the period of time the employee would have to work to earn the amount of the allowance. The reporting requirements are specified in 20 CFR 209.14.

In order to calculate and provide payments, the Railroad Retirement Board (RRB) must collect and maintain records of separation allowances and severance payments which were subject to Tier II taxation from railroad employers. The RRB uses Form BA-9 to obtain information from railroad employers concerning the separation allowances and severance payments made to railroad employees and/or the survivors of railroad employees. Employers currently have the option of submitting a paper BA-9, or in like format, a magnetic tape cartridge, CD-ROM or PC diskette. Completion is mandatory. One response is requested of each respondent

The RRB proposes changes to Form BA-9. Data fields for the proposed Form BA-9 will be revised to allow for: an employee's complete first and last name, 4-digit year fields, and expanded yearly compensation fields for Tier II taxed and Tier II credited amounts.

The RRB also proposes the implementation of two additional electronic equivalent methods of submission for BA-9 information: File Transfer Protocol (FTP) and secure E-mail.

The completion time for Form BA-9 and all electronic equivalent methods of submission is estimated at 1 hour and 16 minutes. The annual respondent burden for the information collection is estimated at 360 responses and 458 burden hours.

4. Title and Purpose of Information Collection; Gross Earnings Report; OMB 3220-0132.

In order to carry out the financial interchange provisions of section 7(c)(2) of the Railroad Retirement Act (RRA), the RRB obtains annually from railroad employer's the gross earnings for their employees on a one-percent basis, i.e., 1% of each employer's railroad employees. The gross earnings sample is based on the earnings of employees whose social security numbers end with the digits “30.” The gross earnings are used to compute payroll taxes under the financial interchange.

The gross earnings information is essential in determining the tax amounts involved in the financial interchange with the Social Security Administration and Centers for Medicare and Medicaid Services. Besides being necessary for current financial interchange calculations, the gross earnings file tabulations are also an integral part of the data needed to estimate future tax income and corresponding financial interchange amounts. These estimates are made for internal use and to satisfy requests from other government agencies and interested groups. In addition, cash flow projections of the social security equivalent benefit account, railroad retirement account and cost estimates made for proposed amendments to laws administered by the RRB are dependent on input developed from the information collection.

The RRB utilizes Form BA-11 or its electronic equivalent(s) to obtain gross earnings information from railroad employers. Employers currently have the option of preparing and submitting BA-11 reports on paper, or in like format on magnetic tape cartridges and PC diskettes. Completion is mandatory. One response is requested of each respondent.

The RRB proposes changes to Form BA-11 to add an additional item for an employer's name and to expand an existing item to allow for the reporting of an employee's complete first and last name. The RRB also proposes the implementation of two additional electronic equivalent methods of submission for BA-11information: File Transfer Protocol (FTP) and secure E-mail.

The RRB estimates the completion time for BA-11 information as follows: 5 hours for BA-11 responses submitted via File Transfer Protocol and magnetic tape and 30 minutes for BA-11's submitted via paper, diskette, and secure E-mail. The annual respondent burden for the information collection is estimated at 168 responses and 107 burden hours.

Additional Information or Comments: To request more information regarding any of the information collections listed above or to obtain copies of the information collection justifications, forms, and/or supporting material, please call the RRB Clearance Officer at (312) 751-3363 or send an e-mail request to Charles.Mierzwa@RRB.GOV.

Comments regarding the information collections should be sent to Ronald J. Hodapp, Railroad Retirement Board, 844 North Rush Street, Chicago, Illinois 60611-2092 or via an e-mail to Ronald.Hodapp@RRB.GOV, and to the Office of Management Budget at ATTN: Desk Officer for RRB, FAX : (202) 395-6974 or via E-mail to OIRA_Submission@omb.eop.gov. Comments should be received within 60 days of this notice.

Charles Mierzwa,
Clearance Officer.

[FR Doc. E7-16212 Filed 8-16-07; 9:41 am]

BILLING CODE 7905-01-P